NATIONAL SCIENCE FOUNDATION

Privacy Act of 1974; System of Records

AGENCY: Office of the General Counsel, National Science Foundation.

ACTION: Notice of a new Privacy Act System of Records NSF-72: Research.gov.

System Name: Research.gov.

SUMMARY: Research.gov is a partnership, led by the National Science Foundation (NSF), of Federal, research-oriented grant making agencies with a shared vision of enhancing customer service for grant applicants while streamlining and standardizing processes among partner agencies. Research.gov displays records on research and other proposals jointly submitted by individual applicants (Principal Investigators) and their home academic or other institutions to the NSF as well as the United States Department of Agriculture (USDA) Cooperative State Research Education and Extension Service (CSREES). NSF and USDA/CSREES make awards to these institutions under which the individual applicants serve as principal investigators. Research.gov provides end users with a consolidated view of grant application data by displaying information from existing Privacy Act systems maintained by its partner agencies (NSF and USDA/CSREES). Reprints of these Privacy Act Systems are included at the end of this notice (NSF-12, NSF-50, NSF-51 and USDA-CSREES-4).

The records displayed by Research.gov are used by the applicant/grantee's home academic or other institution, Sponsored Project Offices and Principal Investigators to track the status of grant applications.

DATES: Effective Date: This action shall be effective without further notice on November 17, 2007 unless comments are received during or before this period that would result in a contrary determination.

Comments Due Date: Submit comments on or before November 17, 2007.

ADDRESSES: Address all comments concerning this notice to Leslie Jensen, National Science Foundation, Office of the General Counsel, Room 1265, 4201 Wilson Boulevard, Arlington, Virginia 22230 or by sending electronic mail (e-mail) to ljensen@nsf.gov.

SUPPLEMENTARY INFORMATION: This publication is in accordance with the Privacy Act requirement that agencies publish a new system of records in the Federal Register.

Submit comments as an ASCII file avoiding the use of special characters and any form of encryption. Identify all comments sent in electronic e-mail with Subject Line: Comments on new system.

FOR FURTHER INFORMATION CONTACT: Leslie Jensen (703) 292-5065.

Dated: October 12, 2007.
Lawrence Rudolph,
General Counsel.

National Science Foundation

SYSTEM NAME:

Research.gov (NSF-72).

SYSTEM LOCATION:

Research.gov is hosted by contract in Ashburn, VA. The hosting facility provides only the computer hardware, network environment, and application infrastructure for the Research.gov Portal. The data resulting from grant applications to the NSF are maintained both centrally and by individual NSF offices and programs at the National Science Foundation, 4201 Wilson Boulevard, Arlington, Virginia 22230. Files resulting from submission to USDA/CSREES are maintained both centrally and by individual USDA/CSREES offices and programs at the Cooperative State Research Education and Extension Service, 1400 Independence Avenue, SW., Washington, DC 20250.

CATEGORIES OF INDIVIDUALS COVERED BY THE SYSTEM:

Those who have submitted grant applications to:

* The NSF using FastLane since October 1999,

* The NSF using Grants.gov since June 2005,

* USDA/CSREES through Grants.gov since October 2006.

CATEGORIES OF RECORDS IN THE SYSTEM:

Research.gov displays information about grant applications submitted to NSF and/or USDA/CSREES as well as data necessary for applicants to these agencies to manage user access accounts and organizational records at Research.gov.

AUTHORITY FOR MAINTENANCE OF THE SYSTEM:

44 U.S.C. 3101; 42 U.S.C. 1870; National Agricultural Research Extension, and Teaching Policy Act of 1977 (NARETPA), 7 U.S.C. 3318.

PURPOSE OF THE SYSTEM:

Research.gov enables applicants to NSF and/or CSREES to view the status of grant application submissions to the respective agency.

ROUTINE USES OF RECORDS MAINTAINED IN THE SYSTEM, INCLUDING CATEGORIES OF USERS AND THE PURPOSES OF SUCH USES:

1. Disclosure may be made to a Congressional office from the record of an individual in response to an inquiry from the Congressional office made at the request of that individual.

2. Information from the system may be disclosed to contractors, grantees, volunteers, experts, advisors, and other individuals who perform a service to or work on or under a contract, grant, cooperative agreement, advisory committee, committee of visitors, or other arrangement with or for the Federal government, as necessary to carry out their duties in pursuit of the purposes described above. The contractors are subject to the provisions of the Privacy Act.

3. Information from the system may be merged with other computer files in order to carry out statistical studies or otherwise assist NSF with program management, evaluation, and reporting. Disclosure may be made for this purpose to NSF contractors and collaborating researchers, other Government agencies, and qualified research institutions and their staffs. Disclosures are made only after scrutiny of research protocols and with appropriate controls. The results of such studies are statistical in nature and do not identify individuals.

4. Information from the system may be disclosed to the Department of Justice or the Office of Management and Budget for the purpose of obtaining advice on the application of the Freedom of Information Act or Privacy Act to the records.

5. Information from the system may be given to another Federal agency, a court, or a party in litigation before a court or in an administrative proceeding being conducted by a Federal agency when the Government is a party to the judicial or administrative proceeding.

6. Information from the system may be given to the Department of Justice, to the extent disclosure is compatible with the purpose for which the record was collected and is relevant and necessary to litigation or anticipated litigation, in which one of the following is a party or has an interest: (a) NSF or any of its components; (b) an NSF employee in his/her official capacity; (c) an NSF employee in his/her individual capacity when the Department of Justice is representing or considering representing the employee; or (d) the United States, when NSF determines that litigation is likely to affect the Agency.

7. Records from this system may be disclosed to representatives of the General Services Administration and the National Archives and Records Administration who are conducting records management inspections under the authority of 44 U.S.C. 2904 and 2906.

8. To appropriate agencies, entities, and persons when (1) the NSF suspects or has confirmed that the security or confidentiality of information in the system of records has been compromised; (2) the NSF has determined that as a result of the suspected or confirmed compromise there is a risk of harm to economic or property interests, identity theft or fraud, or harm to the security or integrity of this system or other systems or programs (whether maintained by the NSF or another agency or entity) that rely upon the compromised information; and (3) the disclosure made to such agencies, entities, and persons is reasonably necessary to assist in connection with the NSF's efforts to respond to the suspected or confirmed compromise and prevent, minimize, or remedy such harm.

POLICIES AND PRACTICES FOR STORING, RETRIEVING, ACCESSING, RETAINING, AND DISPOSING OF RECORDS IN THE SYSTEM:

STORAGE:

The information displayed by Research.gov is stored in separate systems maintained by participating agencies (i.e., NSF's FastLane and USDA/CSREES' C-REEEMS). Each agency maintains these systems separately, and maintains the original records electronically and/or in paper files.

RETRIEVABILITY:

Information can be retrieved electronically using an applicant's name or identifying number. An individual's name may be used to manually access material in alphabetized paper files.

SAFEGUARDS:

Buildings are locked during non-business hours. Records are kept in rooms that are locked during non-business hours. Records maintained in electronic form are password protected.

System Manager(s) and Address:

For NSF, the Division Director of particular office or program maintaining such records, National Science Foundation, 4201 Wilson Boulevard, Arlington, Virginia 22230.

For CSREES, the Director of the office or program maintaining such records, United States Department of Agriculture, Cooperative Research Education and Extension Service, 1400 Independence Avenue, SW, Washington, DC 20250.

Notification Procedure:

The NSF Privacy Act Officer should be contacted in accordance with procedures set forth at 45 CFR part 613.

Record Access Procedures:

See “Notification Procedure” above.

Contesting Record Procedures:

See “Notification Procedure” above.

Record Source Categories:

Information is obtained from the principal investigator, academic institution or other applicant, peer reviewers, and others.

Systems Exempted from Certain Provisions of the Act:

The portions of this system consisting of investigatory material that would identify reviewers or other persons supplying evaluations of NSF applicants and their proposals have been exempted at 45 CFR part 613 pursuant to 5 U.S.C. 552a(k)(5).

Attachments

NSF-12

System Name:

Fellowships and Other Awards.

System Location:

Numerous files are maintained in paper, microfiche, or electronic form by individual offices and programs at the National Science Foundation, 4201 Wilson Boulevard, Arlington, VA 22230. Others are maintained by NSF contractors, currently Oak Ridge Associated Universities, PO Box 3010, Oak Ridge, Tennessee 37831-2010.

Categories of Individuals Covered by the System:

Persons applying or nominated for and/or receiving NSF support, either individually or through an academic institution, including fellowships or awards of various types.

Categories of Records in the System:

Information varies depending on type of fellowship or award. Normally the information includes personal information supplied with the application or nomination; reference reports; transcripts and Graduate Record Examination scores to the extent required during the application process; abstracts; evaluations and recommendations, review records and selection process results; administrative data and correspondence accumulating during fellows' tenure; and other related materials. There is a cumulative index of all persons applying for or receiving NSF Graduate and NATO fellowships.

Authority for Maintenance of the System:

44 U.S.C. 3101; 42 U.S.C. 1869, 1870, 1880, 1881a and 20 U.S.C. 3915.

Purpose of the System:

This system enables program offices to maintain appropriate files and investigatory material in evaluating applications or nominations for fellowships or other awards. NSF employees may access the system to make decisions regarding which proposals to fund or awards to make, and to carry out other authorized internal duties.

Routine Uses of Records Maintained in the System, Including Categories of Users and the Purposes of Such Uses:

1. Information from the system may be merged with other computer files in order to carry out statistical studies. Disclosure may be made for this purpose to NSF contractors and collaborating researchers, other Government agencies, and qualified research institutions and their staffs. The contractors are subject to the provisions of the Privacy Act. The results of such studies are statistical in nature and do not identify individuals.

2. Disclosure of information from the system may be made to qualified reviewers for their opinion and evaluation of applicants or nominees as part of the application review process; and to other Government agencies needing data regarding applicants or nominees as part of the application review process, or in order to coordinate programs.

3. Information (such as name, Social Security Number, field of study, and other information directly relating to the fellowship, review status including the agency's decision, year of first award, tenure pattern, start time, whether receiving international travel allowance or a mentoring assistantship) is given to the applicant, nominating, or grantee institution, or an institution the applicant, nominee, or fellow or awardee is attending or planning to attend or employed by for purposes of facilitating review or award decisions or administering fellowships or awards. Notice of the agency's decision may be given to nominators.

4. In the case of fellows or awardees receiving stipends directly from the Government, information is transmitted to the Department of Treasury for preparation of checks or electronic fund transfer authorizations.

5. Fellows' or awardees' name, home institution, and field of study may be released for public information/affairs purposes including press releases.

6. Disclosure may be made to a congressional office from the record of an individual in response to an inquiry from the congressional office made at the request of that individual.

7. Information from the system may be given to contractors, grantees, volunteers, experts, advisors, and other individuals who perform a service to or work on or under a contract, grant, cooperative agreement, advisory committee, committee of visitors, or other arrangement with or for the Federal government, as necessary to carry out their duties. The contractors are subject to the provisions of the Privacy Act.

8. Information from the system may be given to the Department of Justice or the Office of Management and Budget for the purpose of obtaining advice on the application of the Freedom of Information Act or Privacy Act to the records.

9. Information from the system may be given to another Federal agency, a court, or a party in litigation before a court or in an administrative proceeding being conducted by a Federal agency when the Government is a party to the judicial or administrative proceeding.

10. Information from the system may be given to the Department of Justice, to the extent disclosure is compatible with the purpose for which the record was collected and is relevant and necessary to litigation or anticipated litigation, in which one of the following is a party or has an interest: (a) NSF or any of its components; (b) an NSF employee in his/her official capacity; (c) an NSF employee in his/ her individual capacity when the Department of Justice is representing or considering representing the employee; or (d) the United States, when NSF determines that litigation is likely to affect the Agency.

11. Records from this system may be disclosed to representatives of the General Services Administration and the National Archives and Records Administration who are conducting records management inspections under the authority of 44 U.S.C. 2904 and 2906.

Policies and Practices for Storing, Retrieving, Accessing, Retaining, and Disposing of Records in the System:

Storage:

Paper records are kept in file folders. Some records are maintained electronically or on microfiche, including records kept by NSF contractors. Original application materials are kept at NSF.

Retrievability:

Alphabetically by applicant or nominee name.

Safeguards:

Building is locked during non-business hours. Records at NSF are kept in rooms that are locked during non-business hours. Records maintained by NSF contractors are kept in similar rooms and some records are locked in cabinets. Records maintained in electronic form are password protected.

Retention and Disposal:

Files are maintained in accordance with approved record retention schedules. For example, fellowship application files for awardees are kept for 10 years after completion of fellowship or award, then destroyed, while unsuccessful fellowship application files are destroyed after three years; files of recipients of the Waterman Award and National Medal of Science are permanent and eventually retired to the National Archives; those of non-recipients are destroyed after five years.

System Manager(s) and Address:

Division Director of particular office or program maintaining such records, National Science Foundation, 4201 Wilson Boulevard, Arlington, VA 22230.

Notification Procedure:

Contact the NSF Privacy Act Officer in accordance with procedures found at 45 CFR part 613. You can expedite your request if you identify the fellowship or award program about which you are interested. For example, indicate whether you applied for or received a “Graduate Fellowship” or a “Faculty Fellowship in Science” as opposed to merely saying you want a copy of your fellowship.

Record Access Procedure:

See “Notification” above.

Contesting Record Procedure:

See “Notification” above.

Record Source Categories:

Information supplied by or for individuals applying for, nominated for, or receiving support; references; the Education Testing Service; educational institutions supplying transcripts; review records and administrative data developed during selection process and award tenure.

Systems Exempted from Certain Provisions of the Act:

The portions of this system consisting of investigatory material that would identify references, reviewers, or other persons supplying evaluations of applicants or nominees for fellowships or other awards (and where applicable, their proposals) have been exempted at 5 CFR 613 pursuant to 5 U.S.C. 552a(k)(5).

NSF-50

System Name:

Principal Investigator/Proposal file and Associated Records.

System Location:

Files are maintained both centrally and by individual NSF offices and programs at the National Science Foundation, 4201 Wilson Boulevard, Arlington, Virginia 22230.

Categories of Individuals Covered by the System:

Persons who request or have previously requested and/or received support from the National Science Foundation, either individually or through an academic or other institution.

Categories of Records in the System:

The names of principal investigators and other identifying information, addresses of principal investigators, demographic data, the proposal and its identifying number, supporting data from the academic institution or other applicant, proposal evaluations from peer reviewers, a review record, financial data, and other related material. Other related material may include, for example, committee or panel discussion summaries as applicable.

AUthority for Maintenance of the System:

44 U.S.C. 3101; 42 U.S.C. 1870.

Purpose of the System:

This system enables program offices to maintain appropriate files and investigatory material in evaluating applications for grants or other support. NSF employees may access the system to make decisions regarding which proposals to fund, and to carry out other authorized internal duties. Information on principal investigators is also entered in System 51, “Reviewer/Proposal File and Associated Records,” a subsystem of this system, to be used as a source of potential candidates to serve as reviewers as part of the merit review process, or for inclusion on a panel or advisory committee.

Routine Uses of Records Maintained in the System, Including Categories of Users and the Purposes of Such Uses:

1. Disclosure of information from the system may be made to qualified reviewers for their opinion and evaluation of applicants and their proposals as part of the NSF application review process; and to other Government agencies or other entities needing information regarding applicants or nominees as part of a joint application review process, or in order to coordinate programs or policy.

2. Information from the system may be provided to the applicant or Grantee institution to provide or obtain data regarding the application review process or award decisions, or administering grant awards.

3. Disclosure may be made to a Congressional office from the record of an individual in response to an inquiry from the Congressional office made at the request of that individual.

4. Information from the system may be disclosed to contractors, grantees, volunteers, experts, advisors, and other individuals who perform a service to or work on or under a contract, grant, cooperative agreement, advisory committee, committee of visitors, or other arrangement with or for the Federal government, as necessary to carry out their duties in pursuit of the purposes described above. The contractors are subject to the provisions of the Privacy Act.

5. Information from the system may be merged with other computer files in order to carry out statistical studies or otherwise assist NSF with program management, evaluation, and reporting. Disclosure may be made for this purpose to NSF contractors and collaborating researchers, other Government agencies, and qualified research institutions and their staffs. Disclosures are made only after scrutiny of research protocols and with appropriate controls. The results of such studies are statistical in nature and do not identify individuals.

6. Information from the system may be disclosed to the Department of Justice or the Office of Management and Budget for the purpose of obtaining advice on the application of the Freedom of Information Act or Privacy Act to the records.

7. Information from the system may be given to another Federal agency, a court, or a party in litigation before a court or in an administrative proceeding being conducted by a Federal agency when the Government is a party to the judicial or administrative proceeding.

8. Information from the system may be given to the Department of Justice, to the extent disclosure is compatible with the purpose for which the record was collected and is relevant and necessary to litigation or anticipated litigation, in which one of the following is a party or has an interest: (a) NSF or any of its components; (b) an NSF employee in his/her official capacity; (c) an NSF employee in his/her individual capacity when the Department of Justice is representing or considering representing the employee; or (d) the United States, when NSF determines that litigation is likely to affect the Agency.

9. Records from this system may be disclosed to representatives of the General Services Administration and the National Archives and Records Administration who are conducting records management inspections under the authority of 44 U.S.C. 2904 and 2906.

Policies and Practices for Storing, Retrieving, Accessing, Retaining, and Disposing of Records in the System:

Storage:

Various portions of the system are maintained electronically and/or in paper files.

Retrievability:

Information can be retrieved electronically using an applicant's name or identifying number. An individual's name may be used to manually access material in alphabetized paper files.

Safeguards:

Building is locked during non-business hours. Records are kept in rooms that are locked during non-business hours. Records maintained in electronic form are password protected.

Retention and Disposal:

Files are maintained in accordance with approved record retention schedules. Awarded proposals are transferred to the Federal Records Center for permanent retention. Declined proposals are destroyed five years after they are closed out.

System Manager(s) and Address:

Division Director of particular office or program maintaining such records, National Science Foundation, 4201 Wilson Boulevard, Arlington, Virginia 22230.

Notification Procedure:

The NSF Privacy Act Officer should be contacted in accordance with procedures set forth at 45 CFR part 613.

Record Access Procedures:

See “Notification Procedure” above.

Contesting Record Procedures:

See “Notification Procedure” above.

Record Source Categories:

Information is obtained from the principal investigator, academic institution or other applicant, peer reviewers, and others.

Systems Exempted From Certain Provisions of the Act:

The portions of this system consisting of investigatory material that would identify reviewers or other persons supplying evaluations of NSF applicants and their proposals have been exempted at 45 CFR part 613 pursuant to 5 U.S.C. 552a(k)(5).

NSF-51

System Name:

Reviewer/Proposal File and Associated Records.

System Location:

Files are maintained centrally, and in some cases by individual NSF offices and programs, at the National Science Foundation, 4201 Wilson Boulevard, Arlington, Virginia 22230.

Categories of Individuals Covered by the System:

Reviewers who evaluate Foundation applicants and their proposals, either by submitting individual comments, or serving on review panels or site visit teams, or both.

Categories of Records in the System:

The “Reviewer/Proposal File and Associated Records” system is a subsystem of the “Principal Investigator/Proposal File and Associated Records” system (NSF-50), and contains the reviewer's name, title of proposal(s) reviewed and identifying number, and other related material.

Authority for Maintenance of the System:

44 U.S.C. 3101; 42 U.S.C. 1870.

Purpose of the System:

This system enables program offices to reference specific reviewers and maintain appropriate files for use in evaluating applications for grants or other support. NSF employees may access the system to help select reviewers as part of the merit review process, and to carry out other authorized internal duties.

Routine uses of records maintained in the system, including categories of users and the purposes of such uses:

Disclosure of information in this system may be made to:

1. Federal government agencies needing names of potential reviewers and specialists in particular fields.

2. Contractors, grantees, volunteers, experts, advisors, and other individuals who perform a service to or work on or under a contract, grant, cooperative agreement, advisory committee, committee of visitors, or other arrangement with or for the Federal government, as necessary to carry out their duties. The contractors are subject to the provisions of Privacy Act.

3. The Department of Justice or the Office of Management and Budget for the purpose of obtaining advice on the application of the Freedom of Information Act or Privacy Act to the records.

4. Another Federal agency, a court, or a party in litigation before a court or in an administrative proceeding being conducted by a Federal agency when the Government is a party to the judicial or administrative proceeding.

5. The Department of Justice, to the extent disclosure is compatible with the purpose for which the record was collected and is relevant and necessary to litigation or anticipated litigation, in which one of the following is a party or has an interest: (a) NSF or any of its components; (b) an NSF employee in his/her capacity; (c) an NSF employee in his/her individual capacity when the Department of Justice is representing or considering representing the employee; or (d) the United States, when NSF determines that litigation is likely to affect the Agency.

6. Representatives of the General Services Administration and the National Archives and Records Administration who are conducting records management inspections under the authority of 44 U.S.C. 2904 and 2906.

Policies and Practices for Storing, Retrieving, Accessing, Retaining, and Disposing of Records in the System:

Storage:

Various portions of the system are maintained electronically and/or in paper files.

Retrievability:

Information can be accessed from the electronic database by addressing data contained in the database, including individual reviewer names. An individual's name may be used to manually access material in alphabetized paper files.

Safeguards:

Building is locked during non-business hours. Records are kept in rooms that are locked during non-business hours. Records maintained in electronic form are password protected.

Retention and disposal:

File is cumulative and is maintained indefinitely.

System Manager(s) and Address:

Division Director of particular office or program maintaining such records, National Science Foundation, 4201 Wilson Boulevard, Arlington, Virginia 22230.

Notification Procedure:

The NSF Privacy Act Officer should be contacted in accordance with procedures set forth at 45 CFR part 613.

Record Access Procedures:

See “Notification Procedure” above.

Contesting Record Procedures:

See “Notification Procedure” above.

Record Source Categories:

Information is obtained from the individual reviewers, suggestions from other reviewers, the “Principal Investigator/Proposal File” (NSF-50), other applicants for NSF funding or other members of the research community, and from NSF program officers.

Systems Exempted from Certain Provisions of the Act:

The portions of this system consisting of investigatory material which would identify reviewers or other persons supplying evaluations of NSF applicants and their proposals have been exempted at 5 CFR part 613 pursuant to 5 U.S.C. 552a(k)(5).

Privacy Act System “CSREES Grants System,” USDA/CSREES-4 Report

The purpose of this new system of records is to enable program offices to reference reviewers and maintain appropriate files and supporting material in processing, evaluating, and managing applications for grants or other support, including completing awards and distributing funds. CSREES employees may access the system to make decisions regarding proposals and to perform any other authorized internal duties.

The authority for maintaining this system of records is the National Agricultural Research, Extension, and Teaching Policy Act of 1977; 7 U.S.C. 3318.

Use of this system, as established, should not result in infringement of any individual's right to privacy. While the information in this system will be made available to Federal, State, and local agencies, individuals assisting CSREES staff, Department of Justice, and Members of Congress as necessary, all individuals about whom information in this system is maintained will voluntarily submit the information for the purpose of submitting proposals to CSREES and for evaluating applicants and their proposals.

The records are maintained on system file servers and paper files. All records containing personal information are maintained in secured file cabinets or are accessed by unique passwords and log-on procedures.

The system provides for seven types of routine use releases, as follows:

Routine use 1 permits disclosure to Federal agencies needing names of potential reviewers or specialists in particular fields.

Routine use 2 permits disclosure to individuals assisting CSREES staff, either through grant or contract, in the performance of their duties.

Routine use 3 permits disclosure to Federal agencies as part of the Presidential Management Initiative, E-Grants.

Routine use 4 permits disclosure to the Department of Justice when the agency or any component thereof, or any employee of the agency in his or her official capacity where the Department of Justice has agreed to represent the employee, or the United States Government is a party to a litigation or has an interest in such litigation and it is determined that the records are both relevant and necessary to the litigation.

Routine use 5 permits disclosure to an appropriate agency, whether Federal, State, or local, charged with the responsibility of investigating or prosecuting a violation of law or rule, regulation, or order issued when information available indicates a violation or potential violation of law.

Routine use 6 permits disclosure in response to a request for discovery or appearance of a witness, to the extent that what is disclosed is relevant to the subject matter involved in a pending judicial or criminal proceeding or in response to a subpoena issued in a proceeding before a court or adjudicative body, to the extent that the records requested are relevant to the proceedings.

Routine use 7 permits disclosure to a Member of Congress or to a Congressional staff member in response to an inquiry of the Congressional office made at the written request of the constituent about whom the record is maintained.

This new system of records will not be exempt from any provisions of the Privacy Act.

SYSTEM LOCATION:

Records are maintained in Program, Grants, and Funds Management offices and in a computerized system at the Cooperative State, Research, Education, and Extension Service (CSREES), Waterfront Centre, 800 9th Street, SW., Washington, DC 20024.

CATEGORIES OF INDIVIDUALS COVERED BY THE SYSTEM:

Individuals that have submitted proposals to CSREES, either individually or through an academic or other institution, and peer reviewers that evaluate CSREES applicants and their proposals.

CATEGORIES OF RECORDS IN THE SYSTEM:

The system contains records of the project director, the authorized organizational representative, potential proposal reviewers, the proposal and its identifying number, supporting data from the academic institution or other applicant, proposal evaluations from peer reviewers, a review record, financial data, and other related material such as, committee or panel discussion summaries and other agency records containing or reflecting comments on the proposal or the applicants from peer reviewers.

AUTHORITY FOR MAINTENANCE OF THE SYSTEM:

National Agricultural Research, Extension, and Teaching Policy Act of 1977 (NARETPA), 7 U.S.C. 3318.

ROUTINE USES OF RECORDS MAINTAINED IN THE SYSTEM, INCLUDING CATEGORIES OF USERS AND THE PURPOSES OF SUCH USES:

Records in this system may be disclosed to (1) Federal agencies needing names of potential reviewers or specialists in particular fields; (2) individuals assisting CSREES staff, either through grant or contract, in the performance of their duties; (3) Federal agencies as part of the Presidential Management Initiative, E-Grants; (4) the Department of Justice when: (a) The agency or any component thereof; or (b) any employee of the agency in his or her official capacity where the Department of Justice has agreed to represent the employee; or (c) the United States Government is a party to litigation or has an interest in such litigation, and by careful review, the agency determines that the records are both relevant and necessary to the litigation and the use of such records by the Department of Justice is therefore deemed by the agency to be for a purpose that is compatible with the purpose for which the agency collected the records; (5) an appropriate agency, whether Federal, State, or local, charged with the responsibility of investigating or prosecuting a violation of law or rule, regulation, or order issued pursuant thereto, when information available indicates a violation or potential violation of law, whether civil, criminal, or regulatory in nature, and whether arising by general statute or particular program statute, or by rule, regulation, or order issued pursuant to such statute; (6) in response to a request for discovery or appearance of a witness, to the extent that what is disclosed is relevant to the subject matter involved in a pending judicial or criminal proceeding or in response to a subpoena issued in a proceeding before a court or adjudicative body, to the extent that the records requested are relevant to the proceedings; and (7) a Member of Congress or to a Congressional staff member in response to an inquiry of the Congressional office made at the written request of the constituent about whom the record is maintained.

POLICIES AND PRACTICES FOR STORING, RETRIEVING, ACCESSING, RETAINING, AND DISPOSING OF RECORDS IN THE SYSTEM:

STORAGE:

Records are maintained on system file servers and paper files in the program offices at CSREES, Waterfront Centre, 800 9th Street, SW, Washington, DC 20024.

RETRIEVABILITY:

Records can be retrieved by name, project leader, co-investigator, and any other data field such as institution or title.

SAFEGUARDS:

All records containing personal information are maintained in secured file cabinets or are accessed by unique passwords and log-on procedures. Only those employees with a need-to-know in order to perform their duties will be able to access the information.

RETENTION AND DISPOSAL:

The Data File is cumulative and is maintained indefinitely, and documents are disposed according to agency file plan and disposition schedule. Non-funded proposals are maintained onsite for 1 year and then disposed after 3 years. Funded proposals are maintained onsite for 1 year after completion of the award, and then transferred to the National Archive and Records Administration.

SYSTEM MANAGER(S) AND ADDRESS:

Deputy Administrator, Information Systems and Technology Management (ISTM), USDA-CSREES, Stop 2216, 1400 Independence Avenue, SW, Washington, DC 20250-2216. The address for express mail or overnight courier service is: Deputy Administrator, ISTM, USDA-CSREES, Waterfront Centre, 800 9th Street, SW., Washington, DC 20024.

NOTIFICATION PROCEDURE:

Any individual may request information regarding this system of records or information as to whether the system contains records pertaining to such individual from the System Manager.

RECORD ACCESS PROCEDURE:

Any individual may gain access to a record in the system that pertains to such individual by submitting a written request to the System Manager.

CONTESTING RECORD PROCEDURES:

Any individual may contest a record in the system that pertains to such individual by submitting written information to the System Manager.

RECORD SOURCE CATEGORIES:

Information in this system is obtained from the individuals submitting the proposals and from peer reviewers.

EXEMPTIONS CLAIMED FOR THE SYSTEM:

None.

[FR Doc. E7-20485 Filed 10-16-07; 8:45 am]

BILLING CODE 7555-01-P